ENVIRONMENTAL PROTECTION AGENCY

[FRL-7486-6]

Proposed Administrative Past Cost Settlement Under Section 122(h)(1) of the Comprehensive Environmental Response Compensation and Liability Act; In the Matter of Ohio Drum Superfund Site, Cleveland, OH

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Ohio Drum Superfund Site (“the Site”) in Cleveland, Ohio, with four companies: United States Steel, United States Gypsum, Waterlox Coatings Corporation, and Youngstown Barrel & Drum Company (“the settling parties”). The settlement requires United States Steel to pay $60,000.00 to the Hazardous Substance Superfund. United States Gypsum will pay $40,000.00 to the Hazardous Substance Superfund. Waterlox Coatings Corporation will pay $5000.00 to the Hazardous Substance Superfund. Youngstown Barrel & Drum Company will pay $25,000.00 to the Hazardous Substance Superfund.

Under the terms of the settlement, the settling parties agree to pay their respective settlement amounts. In exchange for their payments, the United States covenants not to sue or take administrative action pursuant to section 107(a) of CERCLA, 42 U.S.C. 9607(a), to recover costs that the United States paid in connection with the Site through February 1, 2003. In addition, the settling parties are entitled to protection from contribution actions or claims as provided by sections 113(f) and 122(h)(4) of CERCLA, 42 U.S.C. 9613(f) and 9622(h)(4), for response costs incurred by any person at the Site through February 1, 2003.

For thirty (30) days after the date of publication of this notice, the Agency will receive written comments relating to the settlement. The Agency will consider all comments received and may modify or withdraw its consent to the settlement if comments received disclose facts or considerations which indicate that the settlement is inappropriate, improper, or inadequate.

DATES: Comments must be submitted on or before May 23, 2003.

ADDRESSES: Comments should reference the Ohio Drum Superfund Site, Cleveland, Ohio, and EPA Docket No. V-W-03-C-738, and should be addressed to Mark Geall, Associate Regional Counsel, U.S. EPA, Mail Code C-14J, 77 W. Jackson Blvd., Chicago, Illinois, 60604. The Agency's response to any comments received will be available for public inspection at EPA's Region 5 Office at 77 West Jackson Boulevard, Chicago, Illinois, 60604, and at the Cleveland Public Library, Cleveland, Ohio. The proposed settlement is available for public inspection at EPA's Record Center, 7th floor, 77 W. Jackson Blvd., Chicago, Illinois, 60604. A copy of the proposed settlement may be obtained from Mark Geall, Associate Regional Counsel, U.S. EPA, Mail Code C-14J, 77 W. Jackson Blvd., Chicago, Illinois, 60604, telephone (312) 353-9538.

FOR FURTHER INFORMATION CONTACT: Mark Geall, Associate Regional Counsel, U.S. EPA, Mail Code C-14J, 77 W. Jackson Blvd., Chicago, Illinois, 60604, telephone (312) 353-9538.

Authority: The Comprehensive Environmental Response, Compensation, and Liability Act of 1980, as amended, 42 U.S.C. 9601, et seq.

Dated: April 3, 2003.
William E. Muno,
Director, Superfund Division.

[FR Doc. 03-10068 Filed 4-22-03; 8:45 am]

BILLING CODE 6560-50-P